ENVIRONMENTAL PROTECTION AGENCY

[FRL-9954-72-OAR]

Clean Air Act Advisory Committee (CAAAC): Notice of Meeting

AGENCY: Environmental Protection Agency (EPA).

ACTION: Notice.

SUMMARY: The Environmental Protection Agency (EPA) announces an upcoming meeting for the Clean Air Act Advisory Committee (CAAAC). The EPA established the CAAAC on November 19, 1990, to provide independent advice and counsel to EPA on policy issues associated with implementation of the Clean Air Act of 1990. The Committee advises on economic, environmental, technical, scientific and enforcement policy issues.

DATES: The CAAAC will hold its next face-to-face meetings on December 1, 2016 from 08:30 a.m. to 04:30 p.m.

ADDRESSES: The meeting will take place at the DuPont Circle Hotel, 1500 New Hampshire Avenue NW., Washington, DC 20036.

FOR FURTHER INFORMATION CONTACT: Any member of the public who wants further information concerning the CAAAC's public teleconference may contact Tamara Saltman of the Office of Air and Radiation, U.S. EPA at saltman.tamara@epa.gov. Additional information about this meeting, the CAAAC, and its subcommittees and workgroups can be found on the CAAAC Web site: http://www.epa.gov/oar/caaac/.

SUPPLEMENTARY INFORMATION: Inspection of Committee Documents: The committee agenda and any documents prepared for the meeting will be publicly available on the CAAAC Web site at http://www.epa.gov/oar/caaac/ prior to the meeting. Thereafter, these documents, together with CAAAC meeting minutes, will be available on the CAAAC Web site or by contacting the Office of Air and Radiation Docket and requesting information under docket EPA-HQ-OAR-2004-0075. The docket office can be reached by email at: a-and-r-Docket@epa.gov or FAX: 202-566-9744.

For information on access or services for individuals with disabilities, please contact Lorraine Reddick at reddick.lorraine@epa.gov, preferably at least 10 days prior to the meeting to give EPA as much time as possible to process your request.

Authority: 5 U.S.C. App. 2 Section 10(a)(2).

Dated: October 24, 2016.
Tamara Saltman,
Interim Designated Federal Officer, Clean Air Act Advisory Committee, Office of Air and Radiation.

[FR Doc. 2016-26738 Filed 11-3-16; 8:45 am]

BILLING CODE 6560-50-P